DEPARTMENT OF DEFENSE

Department of the Army; Corps of Engineers

Intent To Prepare a Draft Environmental Impact Statement for the Liberty State Park Ecosystem Restoration Project, Jersey City, Hudson County, NJ

AGENCY: Department of the Army, U.S. Army Corps of Engineers, DoD.

ACTION: Notice of intent.

SUMMARY: The U.S. Army Corps of Engineers (Corps), New York District, is preparing a Draft Environmental Impact Statement (EIS) to ascertain compliance with the National Environmental Policy Act (NEPA), which will lead to the production of a NEPA document in accordance with the President's Council on Environmental Quality (CEQ) Rules and Regulations, as defined and amended in 40 CFR parts 1500-1508, Corps principles and guidelines as defined in Engineering Regulation (ER) 1105-2-100, and other applicable Federal and State environmental laws, for the proposed Ecosystem Restoration Project at Liberty State Park, Jersey City, Hudson County, NJ. The study area includes Liberty State Park, the immediately adjacent environs of Jersey City and the surrounding proximal waters of Upper New York Bay.

FOR FURTHER INFORMATION CONTACT: Robert Will, Project Biologist, U.S. Army Corps of Engineers, New York District, Planning Division, Environmental Analysis Branch, 26 Federal Plaza, room 2151, New York, NY 10278-0090 at (212) 264-2165 or at Robert.J.Will@usace.army.mil.

SUPPLEMENTARY INFORMATION: 1. This study was authorized in a resolution of the Committee on Transportation and Infrastructure of the U.S. House of Representatives, dated April 15, 1999, Docket 2596.

2. A Public Scoping Meeting was held on July 17, 2003 and the results collected in a Public Scoping Document. These results are available for review and additional scoping comments. All results from public and agency scoping coordination will be addressed in the DEIS. Parties interested in receiving the Public Scoping Document should contact Mr. Will at the above address.

3. A DEIS is due for completion by July 2004.

4. Federal agencies interested in participating as a Cooperating Agency are requested to submit a letter of intent to COL John B. O'Dowd, District Engineer, at the above address.

Leonard Houston,
Chief, Environmental Analysis Branch.

[FR Doc. 04-13015 Filed 6-8-04; 8:45 am]

BILLING CODE 3710-06-M